DEPARTMENT OF COMMERCE

National Institute of Standards and Technology

Agency Information Collection Activities; Submission to the Office of Management and Budget (OMB) for Review and Approval; Comment Request; National Cybersecurity Center of Excellence (NCCoE) Participant Letter(s) of Interest (LoI)

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 29, 2021.

ADDRESSES: Interested persons are invited to submit written comments by mail to Maureen O'Reilly, Management Analyst, NIST, by email to PRAcomments@doc.gov. Please reference OMB Control Number 0693-0075 in the subject line of your comments. Do not submit Confidential Business Information or otherwise sensitive or protected information.

FOR FURTHER INFORMATION CONTACT: Requests for additional information or specific questions related to collection activities should be directed to Keri Bray, NIST NCCoE, 9700 Great Seneca Highway, Rockville, MD 20850, 301-975-0220, keri.bray@nist.gov.

SUPPLEMENTARY INFORMATION:

I. Abstract

In order to fulfill its core mission, the National Cybersecurity Center of Excellence (NCCoE) publishes announcements in the Federal Register of new collaborative projects to address cybersecurity challenges. In response to these announcements, technology vendors are invited to submit Letters of Interest (LoI) for technologies relevant to the challenge. These letters specify the product(s) that the potential collaborator is submitting for consideration, how the product(s) address(es) one or more of the requirements of the project, and contact information for the company's representative. Subsequent to the submission of LoIs, NIST invites companies with relevant technology to enter into a Collaborative Research and Development Agreement (CRADA) with NIST.

II. Method of Collection

Upon request, submitters are provided with questions in an electronic document that can be filled in, signed, and submitted via mail or electronic mail.

III. Data

OMB Control Number: 0693-0075.

Form Number(s): None.

Type of Review: Regular submission, revision of a current information collection.

Affected Public: Business or other for-profit organizations.

Estimated Number of Respondents: 120.

Estimated Time per Response: 2 hours.

Estimated Total Annual Burden Hours: 240.

Estimated Total Annual Cost to Public: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-21243 Filed 9-29-21; 8:45 am]

BILLING CODE 3510-13-P